NUCLEAR REGULATORY COMMISSION

[ Docket Nos. 50-247-LR and 50-286-LR ASLBP No. 07-858-03-LR-BD01]

Atomic Safety and Licensing Board; In the Matter of Entergy Nuclear Operations, Inc.; Before Administrative Judges: Lawrence G. McDade, Chairman; Dr. Michael F. Kennedy; Dr. Richard E. Wardwell; (Indian Point Nuclear Generating Units 2 and 3)

October 1, 2015.

Notice

(Track 2 Hearing Venue)

As announced in the April 23, 2015, Notice of Hearing, the Board will receive oral testimony on the pre-filed evidentiary submissions for three contentions between November 16 and 20, 2015.¹

¹ Licensing Board Notice of Hearing (Scheduling Track 2 Hearing) (April 23, 2015) at 1 (unpublished).

The venue for this evidentiary hearing will be the DoubleTree Hotel located at 455 South Broadway, Tarrytown, NY 10591. The hearing will commence at 12 p.m. on Monday, November 16, 2015. The start time for each subsequent day will be announced at the hearing itself. The contentions will be heard in numerical order.

Parties are reminded that any motion for cross-examination shall be filed via the Electronic Information Exchange and served on all other parties no later than October 9, 2015, and that proposed question and cross-examination plans shall be filed in camera by that same date.²

² This deadline is set 30 days after New York submitted its Supplemental Testimony and Statements of Position. See Licensing Board Scheduling Order (July 1, 2010) at 15-16 (unpublished).

The Board will hold a pre-hearing conference via telephone during either the week of October 25 or the week of November 1, 2015. Counsel shall notify the Board of any date and time during that period when they would not be available for a conference. Such notice shall include the reason why counsel would not be available.

All parties, and interested governmental entities, shall notify the Board of who will be representing them at the hearing and also provide notice of the number of seats they will need at or near counsel table for attorneys, paralegals, and other support personnel. This notice should be made promptly, but in no event later than October 22, 2015.

In addition, if any witness for whom written testimony was submitted will not be available at the hearing, notice shall be provided to the Board immediately upon learning of witness's unavailability.

All notifications to the Board, including pre-hearing conference availability, representation at the hearing, and witness unavailability, shall be sent by email to the Board's law clerks, Alana Wase and Julie Reynolds-Engel, at alana.wase@nrc.gov and julie.reynolds-engel@nrc.gov.

Parties wishing to reserve conference-room space in the hotel for the duration of the hearing must contact the hotel directly at 914-631-5700.

Dated: Rockville, Maryland, October 1, 2015.
For the Atomic Safety and Licensing Board.
Lawrence G. McDade,
Chairman, Administrative Judge.

[FR Doc. 2015-25565 Filed 10-6-15; 8:45 am]

BILLING CODE 7590-01-P